DEPARTMENT OF COMMERCE

National Oceanic and Atmospheric Administration

Evaluation of National Estuarine Research Reserve; Public Meeting; Request for Comments

AGENCY: Office for Coastal Management (OCM), National Ocean Service (NOS), National Oceanic and Atmospheric Administration (NOAA), Department of Commerce (DOC).

ACTION: Notice of public meeting and opportunity to comment.

SUMMARY: The National Oceanic and Atmospheric Administration (NOAA), Office for Coastal Management will hold a public meeting to solicit comments on the performance evaluation of the Delaware National Estuarine Research Reserve.

DATES: NOAA will consider all written comments received by October 23, 2020. A virtual public meeting will be held on Wednesday, October 14, 2020 at 12 p.m. EDT.

ADDRESSES: You may submit written comments on the national estuarine research reserve NOAA intends to evaluate by emailing Carrie Hall, Evaluator, NOAA Office for Coastal management at Carrie.Hall@noaa.gov. Timely comments received by the Office for Coastal Management are considered part of the public record and may be publicly accessible. Any personal information (e.g., name, address) submitted voluntarily by the sender may also be publicly accessible. NOAA will accept anonymous comments.

You may also provide public comments during the virtual public meeting, which is being held Wednesday, October 14, 2020 at 12 p.m. EDT. To participate in the virtual public meeting, registration is required at least two hours in advance by Wednesday, October 14, 2020, at 10 a.m. EDT. Advance registration is available via the following website: http://noaacsc.adobeconnect.com/depublicmeeting/event/event_info.html. You may participate online or by phone. If you would like to provide comment during the public meeting, please select “yes” during the online registration. The line-up of speakers will be based on the date and time of registration.

FOR FURTHER INFORMATION CONTACT: Carrie Hall, Evaluator, NOAA Office for Coastal Management by email at Carrie.Hall@noaa.gov or by phone at (240) 533-0730. Copies of the previous evaluation findings, reserve management plan, and reserve site profile may be viewed and downloaded on the internet at http://coast.noaa.gov/czm/evaluations. A copy of the evaluation notification letter and most recent progress report may be obtained upon request by contacting Carrie Hall.

SUPPLEMENTARY INFORMATION: Section 312 of the Coastal Zone Management Act (CZMA) requires NOAA to conduct periodic evaluations of federally approved state coastal programs. The process includes one or more public meetings, consideration of written public comments, and consultations with interested Federal, state, and local agencies and members of the public. During the evaluation, NOAA will consider the extent to which the state of Delaware has met the national objectives, adhered to the management program approved by the Secretary of Commerce, and adhered to the terms of financial assistance under the CZMA. When the evaluation is completed, NOAA's Office for Coastal Management will place a notice in the Federal Register announcing the availability of the Final Evaluation Findings.

Keelin Kuipers,
Deputy Director, Office for Coastal Management, National Ocean Service, National Oceanic and Atmospheric Administration.

[FR Doc. 2020-20096 Filed 9-10-20; 8:45 am]

BILLING CODE 3510-JE-P